DEPARTMENT OF AGRICULTURE

Forest Service

Fremont-Winema National Forest; Bly and Chiloquin Ranger Districts; Oregon; East Hills Project Environmental Impact Statement

AGENCY: Forest Service, USDA.

ACTION: Notice of intent to prepare an environmental impact statement.

SUMMARY: The Forest Service will prepare an Environmental Impact Statement (EIS) to disclose the environmental effects of commercial and non-commercial vegetation management activities, prescribed burning, road activities, stream and aquatic habitat improvements, and other restoration activities. The project is located on the Bly and Chiloquin Ranger Districts, Fremont-Winema National Forest, Klamath County, Oregon.

DATES: Comments concerning the scope of the analysis must be received by November 14, 2016. The draft environmental impact statement is expected May 2017 and the final environmental impact statement is expected August 2017.

ADDRESSES: Send written comments to Eric Watrud, Acting Forest Supervisor, Fremont-Winema National Forest, c/o Jody Perozzi, PO Box 25, Bly, OR 97622. Comments may also be sent via email to comments-pacificnorthwest-fremont-bly@fs.fed.us, or via facsimile to 541-353-2750.

FOR FURTHER INFORMATION CONTACT: Jody Perozzi, Environmental Coordinator Bly Ranger District; PO Box 25, Bly, OR 97622. Phone: 541-353-2723. Email: jperozzi@fs.fed.us.

Individuals who use telecommunication devices for the deaf (TDD) may call the Federal Information Relay Service (FIRS) at 1-800-877-8339 between 8 a.m. and 8 p.m., Eastern Time, Monday through Friday.

SUPPLEMENTARY INFORMATION: The East Hills Project area encompasses approximately 169,000 acres, including 138,733 acres of National Forest System lands managed by the Forest Service, and approximately 30,500 acres of the Sycan Marsh Preserve owned and managed by The Nature Conservancy. The majority of the project is within the Klamath Tribes' former 1954 reservation. The project area is located approximately 10 miles northwest of the town of Bly, OR. The project area crosses two Ranger District boundaries: Bly (38%) and Chiloquin (62%), and is managed under two National Forest Land and Resource Management Plans (LRMP) as amended: the 1990 Winema LRMP and the 1989 Fremont LRMP. The Sycan Wild and Scenic River flows through the middle of the project area forming the boundary between lands managed under the Fremont LRMP and those managed under the Winema LRMP. The legal description of the project area includes Townships 31, 32, 33, 34, 35 South, and Ranges 10, 11, 12, 13, 14 East, Willamette Meridian, Klamath County, Oregon.

Purpose and Need for Action

The purpose of the project is to conduct restoration management activities to improve forest resiliency and sustainability, maintain and enhance habitat diversity, manage the road system, and restore hydrologic functioning, thereby moving the landscape towards the goals, objectives, and desired future conditions directed by the Fremont and Winema LRMPs, as amended by the Eastside Screens and INFISH. The underlying needs for the East Hills Project derive from the differences between the current landscape condition, and the goals, objectives, and desired future conditions directed by the Fremont and Winema LRMPs, as amended by the Eastside Screens and INFISH. To promote an ecologically resilient landscape consistent with the desired conditions outlined in the Forest Plans there is a need to: (1) Reduce stand densities to improve vigor and increase resilience to insects, disease, drought, and wildfire; (2) Maintain and promote development of late/old seral (LOS) habitat consistent with the historic range of variability (HRV); (3) Maintain LOS components, by protecting and releasing large and old trees from competition; (4) Restore dominance of ponderosa pine and other fire- and drought-tolerant species; (5) Create spatial heterogeneity within stands and across the landscape; (6) Create age class diversity in climax lodgepole pine stands; (7) Reduce fuel loads and reintroduce fire on the landscape; (8) Enhance and restore non-forested habitat diversity; (9) Conserve, improve, and restore habitat for wildlife and botanical species; (10) Improve mule deer habitat; (11) Conserve and restore cultural plants; (12) Maintain and restore aspen and other hardwoods; (13) Restore and enhance natural stream function and associated habitats; (14) Reduce road densities; (15) Maintain opportunities for sustainable recreation activities; and (16) Provide forest products as a by-product of meeting the above objectives.

Proposed Action

The Forest proposed action includes restoration activities for the following resources: vegetation management, stream and aquatic habitat, and road systems to address the purpose and need. These activities would occur over approximately the next 10 years.

Vegetation management will include a combination of commercial thinning, small tree thinning, prescribed burning, and other fuels treatments. The use of different methods would be determined by site conditions, accesibility and specific resource protection needs. The proposal includes four different vegetation restoration treatment emphasis areas: (1) Mixed conifer; (2) lodgepole pine; (3) meadow/riparian; (4) ponderosa pine.

The proposed action contains stream restoration and fish passage activities including repair of headcuts and incised stream channels, large wood addition, streambank stabilization, and culvert replacements.

Approximately 19 miles of roads are proposed to be closed and approximately 243 miles of roads are proposed for decommissioning post-implementation. Maintenance level increases are proposed for approximately 8 miles of roads to provide through routes of open roads.

The East Hill Project will also include a variety of project design and resource protection measures that serve to mitigate the impact of activities to resources, including air quality, cultural and heritage, wildlife, aquatic species, soils, water, scenic, botanical species and invasive plant species prevention. The proposed action may also include project-specific amendments to the Fremont and Winema National Forest LRMPs.

Possible Alternatives

The Forest Service will consider a range of alternatives. One of these will be the “no action” alternative in which none of the proposed actions would be implemented. Additional alternatives may be considered in response to issues raised by the public during the scoping process or due to additional concerns for resource values identified by the interdisciplinary team.

Responsible Official

The Forest Supervisor of the Fremont-Winema National Forest, 1301 South G Street, Lakeview, OR 97630, is the Responsible Official. As the Responsible Official, I will decide if the proposed action will be implemented. I will document the decision and rationale for the decision in the Record of Decision. I have delegated the responsibility for preparing the draft EIS and final EIS to the District Ranger, Bly Ranger District.

Nature of Decision To Be Made

Based on the purpose and need, the Responsible Official reviews the proposed action, the other alternatives, the environmental consequences, and public comments on the analysis in order to make the following decision: (1) Whether to implement timber harvest and associated fuels treatments, prescribed burning, road management activities, and stream improvements, including design features and potential mitigation measures to protect resources; and if so, how much and at what specific locations; (2) What, if any, project-specific Forest Plan Amendments will be necessary to implement the project; (3) What, if any, specific project monitoring requirements are needed to assure design features and potential mitigation measures are implemented and effective, and to evaluate the success of the project objectives.

Scoping Process

This notice of intent initiates the scoping process, which guides the development of the environmental impact statement. The interdisciplinary team will continue to seek information, comments, and assistance from Federal, State, and local agencies, Tribal governments, and other individuals or organizations that may be interested in, or affected by, the proposed action.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered.

Dated: October 7, 2016.
Eric Watrud,
Acting Forest Supervisor.

[FR Doc. 2016-24854 Filed 10-13-16; 8:45 am]

BILLING CODE 3411-15-P